DEPARTMENT OF LABOR

Mine Safety and Health Administration

Summary of Decisions Granting in Whole or in Part Petitions for Modification

AGENCY: Mine Safety and Health Administration (MSHA), Labor.

ACTION: Notice of affirmative decisions issued by the Administrators for Coal Mine Safety and Health and Metal and Nonmetal Mine Safety and Health on petitions for modification of the application of mandatory safety standards.

SUMMARY: Under section 101 of the Federal Mine Safety and Health Act of 1977, the Secretary of Labor (Secretary) may allow the modification of the application of a mandatory safety standard to a mine if the Secretary determines either that an alternate method exists at a specific mine that will guarantee no less protection for the miners affected than that provided by the standard, or that the application of the standard at a specific mine will result in a diminution of safety to the affected miners.

Final decisions on these petitions are based upon the petitioner's statements, comments and information submitted by interested persons, and a field investigation of the conditions at the mine. MSHA, as designee of the Secretary, has granted or partially granted the requests for modification listed below. In some instances, the decisions are conditioned upon compliance with stipulations stated in the decision. The term “FR Notice” appears in the list of affirmative decisions below. The term refers to the Federal Register volume and page where MSHA published a notice of the filing of the petition for modification.

FOR FURTHER INFORMATION: Petitions and copies of the final decisions are available for examination by the public in the Office of Standards, Regulations, and Variances, MSHA, Room 627, 4015 Wilson Boulevard, Arlington, Virginia 22203. Contact Barbara Barron at 703-235-1910.

Dated: March 16, 2000.
Carol J. Jones,
Director, Office of Standards, Regulations and Variances.

Affirmative Decisions on Petitions for Modification

Docket No.: M-1999-011-C.

FR Notice: 64 FR 16760.

Petitioner: D & D Coal Company.

Regulation Affected: 30 CFR 75.1202 and 75.1202-1(a).

Summary of Findings: Petitioner's proposal is to revise and supplement mine maps annually instead of every 6 months, and to update maps daily by hand notations. This is considered an acceptable alternative method for the 7′ Drift Mine. MSHA grants the petition for modification for the 7′ Drift Mine with conditions.

Docket No.: M-1999-033-C.

FR Notice: 64 FR 32552.

Petitioner: Snyder Coal Company.

Regulation Affected: 30 CFR 75.1202 and 75.1202-1(a).

Summary of Findings: Petitioner's proposal is to conduct mine surveys and revise and supplement mine maps annually instead of every 6 months, to update maps daily by hand notations, and to conduct surveys prior to commencing retreat mining and whenever a drilling program under 30 CFR 75.388 or plan for mining into inaccessible areas under 30 CFR 75.389 is required. This is considered an acceptable alternative method for the Rattling Run Slope Mine. MSHA grants the petition for modification for the Rattling Run Slope Mine with conditions.

Docket No.: M-1999-047-C.

FR Notice: 64 FR 32554.

Petitioner: Little Buck Coal Company.

Regulation Affected: 30 CFR 75.1200(d), (h), and (i)

Summary of Findings: Petitioner's proposal is to use on its mine map cross-sections instead of contour lines through the intake slope, at locations of rock tunnel connections between veins, at 1,000 foot intervals of advance from the intake slope, and to limit the required mapping of the mine workings above and below to those present within 100 feet of the veins being mined except when veins are interconnected to other veins beyond the 100-foot limit through rock tunnels. This is considered an acceptable alternative method for the #3 Slope Mtn. Mine. MSHA grants the petition for modification for the #3 Slope Mtn. Mine with conditions.

Docket No.: M-1999-048-C.

FR Notice: 64 FR 32554.

Petitioner: Little Buck Coal Company.

Regulation Affected: 30 CFR 75.1202 and 75.1202-1(a).

Summary of Findings: Petitioner's proposal is to conduct mine surveys and revise and supplement mine maps annually instead of every 6 months, to update maps daily by hand notations, and to conduct surveys prior to commencing retreat mining and whenever a drilling program under 30 CFR 75.388 or plan for mining into inaccessible areas under 30 CFR 75.389 is required. This is considered an acceptable alternative method for the #3 Slope Buck Mtn. Mine. MSHA grants the petition for modification for the #3 Slope Buck Mtn. Mine with conditions.

Docket No.: M-1999-056-C.

FR Notice: 64 FR 41140.

Petitioner: Monterey Coal Company.

Regulation Affected: 30 CFR 75.1909(b)(6).

Summary of Findings: Petitioner's proposal is to lower the blade on its road grader to stop and control the grader instead of adding front wheel brakes on the grader. This is considered an acceptable alternative method for the No. 1 Mine. MSHA grants the petition for modification for the No. 1 Mine with conditions.

Docket No.: M-1999-059-C.

Petitioner: Independence Coal Company, Inc..

Regulation Affected: 30 CFR 75.1002-1(a).

Summary of Findings: Petitioner's proposal is to use 4,160 volt cables to supply power to the permissible longwall face equipment. This is considered an acceptable alternative method for the Cedar Grove Mine No. 1. MSHA grants the petition for modification for the Cedar Grove Mine No. 1 with conditions.

Docket No.: M-1999-062-C.

FR Notice: 64 FR 49246.

Petitioner: PennAmerican Coal L.P.

Regulation Affected: 30 CFR 75.1100-2(e)(2).

Summary of Findings: Petitioner's proposal is to use two fire extinguishers or one fire extinguisher of twice the required capacity at all temporary electrical installations instead of using one portable fire extinguisher and 240 pounds of rock dust. This is considered an acceptable alternative method for the Burrell Mine. MSHA grants the petition for modification for the Burrell Mine.

Docket No.: M-1999-065-C.

FR Notice: 64 FR 49246.

Petitioner: Canterbury Coal Company.

Regulation Affected: 30 CFR 75.1100-2(e)(2).

Summary of Findings: Petitioner's proposal is to use two fire extinguishers or one fire extinguisher of twice the required capacity at all temporary electrical installations instead of using one fire extinguisher and 240 pounds of rock dust. This is considered an acceptable alternative method for the DiAnne Mine MSHA grants the petition for modification for the DiAnne Mine.

Docket No.: M-1999-075-C.

FR Notice: 64 FR 55492.

Petitioner: Independence Coal Company, Inc.

Regulation Affected: 30 CFR 75.1700.

Summary of Findings: Petitioner's proposal is to plug and mine through oil and gas wells and to notify the District Manager or designee prior to mining within 300 feet of a plugged oil and gas well. This is considered an acceptable alternative method for the Cedar Grove Mine No. 1. MSHA grants the petition for modification for the Cedar Grove Mine No. 1 with conditions.

Docket No.: M-1998-115-C.

FR Notice: 64 FR 2519.

Petitioner: Primrose Coal #2.

Regulation Affected: 30 CFR 75.335.

Summary of Findings: Petitioner's proposal is to use wooden materials of moderate size and weight to construct seals due to difficulty in accessing previously driven headings and breasts containing inaccessible abandoned workings, to use a design criteria in the 10 psi range, and for seals installed in pairs, to permit the water trap to be installed only in the gangway seal and the sampling tube in the monkey seal. This is considered an acceptable alternative method for the Buck Mountain Vein Slope Mine. MSHA grants the petition for modification for the Buck Mountain Vein Slope with conditions.

[FR Doc. 00-7907 Filed 3-29-00; 8:45 am]

BILLING CODE 4510-43-P